DEPARTMENT OF TRANSPORTATION

Federal Aviation Administration

Aircraft Access to SWIM Working Group Meeting

Meeting Announcement: Thursday, May 16, 2013, From 1:00 p.m. to 4:00 p.m. FAA Headquarters, 800 Independence Ave. SW., Washington DC 20591, Bessie Coleman Room (Second Floor).

Open Meeting

The Federal Aviation Administration (FAA) invites federal employees, aviation professionals and all others interested in FAA NextGen technologies to attend and participate in an Aircraft Access to SWIM Working Group Meeting scheduled for Thursday, May 16, 2013 from 1:00 p.m. to 4:00 p.m. in the Bessie Coleman Room (Second Floor) at the FAA Headquarters Building in Washington DC To attend and follow security procedures, participants must register for the meeting by sending an email to corey.ctr.muller@faa.gov with the following information: Name, Company, Phone Number, U.S. Citizen (Y/N). RSVPs to Corey Muller are required by COB May 1, 2013.

Aircraft Access to SWIM

The FAA's Next Generation Air Transportation System (NextGen) program is a comprehensive modernization of our National Airspace System (NAS). It is intended to provide new aviation capabilities for both users and operators by improving aviation safety, system capacity and throughput.

The FAA's System Wide Information Management (SWIM) program is one of seven transformational programs of the NextGen portfolio. SWIM is designed to utilize a Service Oriented Architecture (SOA) to exchange aviation data and services without the restrictive, time consuming and expensive process of developing unique interfaces for the multitude of systems and equipment used by the NAS.

The Aircraft Access to SWIM (AAtS) initiative is the airborne component of the SWIM SOA. AAtS will allow aircraft to exchange operational information such as: weather, airport information, and other services during all phases of flight. This AAtS capability is significant in that near real time NAS data will now be available to support strategic and tactical traffic management and flight operations.

AAtS will provide aircraft with a means to obtain a common collection of aeronautical services provided from multiple sources. These sources include the FAA, DHS, NWS, and other information sources to create a shared aviation information environment. The AAtS initiative will utilize commercial air/ground network providers' infrastructure to exchange data between aircraft and the NAS ground facilities. The FAA in collaboration with industry users will define the set of operational and technical requirements that will be used to drive that infrastructure.

The AAtS initiative will facilitate common situational awareness between the aircraft flight crews and traffic managers, which will result in better decision making and more efficient NAS operations. AAtS will work to ensure safe, secure, dependable, and hassle-free travel; while reducing energy use, emissions and the impact of aviation on the environment.

Paul Fontaine,
Director, Advanced Concepts and Technology Development, Federal Aviation Administration.

[FR Doc. 2013-09137 Filed 4-17-13; 8:45 am]

BILLING CODE 4910-13-P